DEPARTMENT OF HEALTH AND HUMAN SERVICES

National Institutes of Health

National Institute on Alcohol Abuse and Alcoholism; Amended Notice of Meeting

Notice is hereby given of a change in the meeting of the National Advisory Council on Alcohol Abuse and Alcoholism, September 17, 2003, 5:30 p.m. to September 18, 2003, 3 p.m., Bethesda Marriott Suites, 6711 Democracy Boulevard, Bethesda, MD, 20817 which was published in the Federal Register on August 7, 2003, 061511.

There will not be a closed meeting of the National Advisory Council on Alcohol Abuse and Alcoholism, Thursday, September 18. The open session will start at 9 a.m. instead of 9:30 a.m., at the Natcher Bldg., 45 Center Dr., Bethesda, MD. The meeting is partially closed to the public.

Dated: August 19, 2003.
LaVerne Y. Stringfield,
Director, Office of Federal Advisory Committee Policy.

[FR Doc. 03-21691 Filed 8-25-03; 8:45 am]

BILLING CODE 4140-01-P